NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by August 26, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-008

1. Applicant: Ethan Norris, Leidos, Inc., 7400 South Tucson Way, Centennial, CO 80112

Activity for Which Permit is Requested: Waste Management. The applicant, Leidos Inc. (hereafter “Leidos”) proposes to conduct waste management activities associated with the implementation of the United States Antarctic Program (USAP). The USAP Master Waste permit would apply to all USAP activities, including major reconstruction and modernization efforts, conducted by all organizations supporting or supported by the Program. Leidos and other supporting organizations provide broad-based logistical support, technical support, and transportation services to the USAP. This would include the transport of both hazardous and non-hazardous waste from Antarctica to the United States. Leidos would procure, transport, and track materials containing designated pollutants required for USAP operations and for NSF-supported grantees. Leidos would be responsible for fuel operations including fuel storage, distribution, and resupply; and record-keeping of fuel use. Leidos would collect, store, and ship both hazardous and non-hazardous waste materials and would be responsible for the final disposition of these materials upon return to the United States. Leidos would provide training and technical guidance to enhance the safety and effectiveness of U.S. waste management practices in Antarctica.

Location: Antarctica.

Dates of Permitted Activities: 1 October 2024-30 September 2029.

Kimiko S. Bowens-Knox,
Program Analyst, Office of Polar Programs.

[FR Doc. 2024-16522 Filed 7-25-24; 8:45 am]

BILLING CODE 7555-01-P